DEPARTMENT OF THE TREASURY

Office of Foreign Assets Control

Notice of OFAC Sanctions Actions

SUB-AGENCY: Office of Foreign Assets Control, Department of the Treasury.

ACTION: Notice.

SUMMARY: The U.S. Department of the Treasury's Office of Foreign Assets Control (OFAC) is publishing the names of persons whose property and interests in property have been unblocked pursuant to the Foreign Narcotics Kingpin Designation Act (Kingpin Act) or Executive Order 12978 of October 21, 1995, “Blocking Assets and Prohibiting Transactions With Significant Narcotics Traffickers”. Additionally, OFAC is publishing an update to the identifying information of persons currently included in the list of Specially Designated Nationals and Blocked Persons.

DATES: OFAC's actions described in this notice were effective on June 29, 2018.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On June 29, 2018, OFAC removed from the SDN List the persons listed below, whose property and interests in property were blocked pursuant to the Kingpin Act or Executive Order 12978.

Individuals

1. ARISTIZABAL MEJIA, Diego, c/o BOSQUES DE AGUA SOCIEDAD POR ACCIONES SIMPLIFICADA, Medellin, Colombia; c/o BROKER CMS EL AGRARIO S.A., Envigado, Antioquia, Colombia; c/o DIEGO ARISTIZABAL M. Y ASOCIADOS LTDA., Medellin, Colombia; c/o FUMIGACIONES Y REPRESENTACIONES AGROPECUARIAS S.A., Medellin, Colombia; c/o TREMAINE CORP., Panama; Carrera 50 No. 29 Sur-016, Envigado, Antioquia, Colombia; DOB 22 Jan 1943; Cedula No. 8240938 (Colombia) (individual) [SDNT].

2. UPEGUI GALLEGO, Juan Pablo; DOB 16 Oct 1980; POB Itagui, Antioquia, Colombia; citizen Colombia; Cedula No. 3391839 (Colombia) (individual) [SDNTK] (Linked To: ENFARRADOS COMPANY S.A.S.; Linked To: CENTRO DE DIAGNOSTICO AUTOMOTOR DEL SUR LTDA.).

3. GIRALDO OCHOA, Hugo Humberto; DOB 03 Sep 1962; POB Envigado, Antioquia, Colombia; Cedula No. 70556353 (Colombia) (individual) [SDNTK].

4. VARELA VICTORIA, Walter; DOB 20 Jun 1963; POB Tulua, Valle, Colombia; Cedula No. 16358495 (Colombia) (individual) [SDNTK].

5. JIMENEZ NARANJO, Roberto, c/o CASA DEL GANADERO S.A., Medellin, Colombia; c/o TEJAR LA MOJOSA S.A., Caucasia, Antioquia, Colombia; DOB 18 Apr 1963; Cedula No. 18502967 (Colombia) (individual) [SDNT].

6. SIERRA RAMIREZ, Juan Carlos; DOB 15 Apr 1966; Cedula No. 71680143 (Colombia) (individual) [SDNTK].

7. LONDONO ALVAREZ, Gloria Elena (a.k.a. LONDONO DE GRAJALES, Gloria Elena), c/o ARMAGEDON S.A., La Union, Valle, Colombia; c/o CRETA S.A., La Union, Valle, Colombia; c/o GAD S.A., La Union, Valle, Colombia; c/o HEBRON S.A., Tulua, Valle, Colombia; c/o HOTEL LOS VINEDOS, La Union, Valle, Colombia; c/o INDUSTRIAS DEL ESPIRITU SANTO S.A., Malambo, Atlantico, Colombia; c/o INTERNATIONAL FREEZE DRIED S.A., Bogota, Colombia; c/o JOSAFAT S.A., Tulua, Valle, Colombia; c/o SALIM S.A., La Union, Valle, Colombia; c/o TRANSPORTES DEL ESPIRITU SANTO S.A., La Union, Valle, Colombia; c/o FRUTAS DE LA COSTA S.A., Malambo, Atlantico, Colombia; c/o CITICAR LTDA., La Union, Valle, Colombia; c/o CONFECCIONES LINA MARIA LTDA., La Union, Valle, Colombia; c/o GBS TRADING S.A., Cali, Colombia; c/o MELON LTDA., Cali, Colombia; c/o WORLD WORKING COMERCIALIZADORA INTERNACIONAL S.A., Cali, Colombia; DOB 22 Apr 1962; POB Medellin, Colombia; Cedula No. 51635146 (Colombia) (individual) [SDNT].

8. GRAJALES MEJIA, Hugo Marino, c/o FREXCO S.A., La Union, Valle, Colombia; c/o INVERSIONES GRAME LTDA., La Union, Valle, Colombia; c/o PANAMERICANA LTDA., Cali, Colombia; c/o SOCIEDAD DE NEGOCIOS SAN AGUSTIN LTDA., La Union, Valle, Colombia; Cedula No. 6355130 (Colombia) (individual) [SDNT].

9. OSSA AYALA, Alvaro Javier, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o INVERSIONES LICOM LTDA., Medellin, Colombia; c/o SOCIEDAD MINERA GRIFOS S.A., El Bagre, Antioquia, Colombia; Cedula No. 98528421 (Colombia) (individual) [SDNT].

10. GALEANO RESTREPO, Diego Mauro, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o INVERSIONES LICOM LTDA., Medellin, Colombia; DOB 17 Mar 1976; POB Medellin, Colombia; Cedula No. 98626113 (Colombia) (individual) [SDNT].

Entities

1. DIEGO ARISTIZABAL M. Y ASOCIADOS LTDA., Calle 1A Sur No. 43A-49 of. 201, Medellin, Colombia; NIT # 890931281-7 (Colombia) [SDNT].

2. CENTRO DE DIAGNOSTICO AUTOMOTOR DEL SUR LTDA. (a.k.a. ENVICENTRO), Carrera 48 No. 49 Sur 45, Envigado, Antioquia, Colombia; NIT # 800233878-1 (Colombia) [SDNTK].

3. ENFARRADOS COMPANY S.A.S., Carrera 48 No. 46 Sur 150, Envigado, Antioquia, Colombia; NIT # 900347098-6 (Colombia) [SDNTK].

4. MEGAYATES LTDA, Bosque, Sector San Isidro, Transversal 54 No. 24-280, Cartagena, Bolivar, Colombia; NIT # 806006215-8 (Colombia) [SDNTK].

5. FINVE S.A. (f.k.a. FINANCIERA DE INVERSIONES LTDA.), Calle 93A No. 14-17 Ofc. 711, Bogota, Colombia; Calle 93N No. 14-20 Ofc. 601, Bogota, Colombia; NIT # 860074650-5 (Colombia) [SDNT].

6. MOR ALFOMBRAS ALFOFIQUE S.A. (f.k.a. ALFOFIQUE LTDA.; f.k.a. ALFOFIQUE TRANSPORTES LTDA.), Carrera 40 No. 169-32, Bogota, Colombia; NIT # 830081048-0 (Colombia) [SDNT].

Additionally, on June 29, 2018, OFAC updated the SDN List for the persons listed below, whose property and interests in property continue to be blocked pursuant to the Kingpin Act.

Individuals

1. FLORES APODACA, Augustin (a.k.a. “EL BARBON”; a.k.a. “EL INGENIERO”; a.k.a. “EL NINO”), Calle Sierra Madre Occidental No. 1280, Colonia Canadas, Culiacan, Sinaloa 8000, Mexico; DOB 09 Jun 1964; Passport 040070827 (Mexico) (individual) [SDNTK].

-to-

FLORES APODACA, Agustin (a.k.a. “EL BARBON”; a.k.a. “EL INGENIERO”; a.k.a. “EL NINO”), Calle Sierra Madre Occidental No. 1280, Colonia Canadas, Culiacan, Sinaloa 8000, Mexico; DOB 09 Jun 1964; POB Sinaloa, Mexico; nationality Mexico; Gender Male; Passport 040070827 (Mexico); R.F.C. FOAA640609DX9 (Mexico); C.U.R.P. FOAA640609HSLLPG00 (Mexico) (individual) [SDNTK].

2. MEZA FLORES, Salome (a.k.a. “FINO”; a.k.a. “PELON”); DOB 23 Oct 1962; nationality Mexico; Passport 07040059504 (Mexico) (individual) [SDNTK].

-to-

FLORES APODACA, Salome (a.k.a. “FINO”; a.k.a. “PELON”); DOB 23 Oct 1962; POB Sinaloa, Mexico; nationality Mexico; Gender Male; Passport 07040059504 (Mexico); R.F.C. FOAS621023Q97 (Mexico); C.U.R.P. FOAS621023HSLLPL04 (Mexico) (individual) [SDNTK].

3. MEZA FLORES, Fausto Isidro (a.k.a. “ISIDRO, Chapito”; a.k.a. “ISIDRO, Chapo”); DOB 19 Jun 1982; POB Navojoa, Sinaloa, Mexico; nationality Mexico; Passport 07040028724 (Mexico); alt. Passport 03040026468 (Mexico) (individual) [SDNTK] (Linked To: AUTOTRANSPORTES TERRESTRES S.A. DE C.V.; Linked To: AUTO SERVICIO JATZIRY S.A. DE C.V.; Linked To: CONSTRUCTORA JATZIRY DE GUASAVE S.A. DE C.V.).

-to-

MEZA FLORES, Fausto Isidro (a.k.a. “ISIDRO, Chapito”; a.k.a. “ISIDRO, Chapo”); DOB 19 Jun 1982; POB Navojoa, Sonora, Mexico; nationality Mexico; Gender Male; Passport 07040028724 (Mexico); alt. Passport 03040026468 (Mexico); R.F.C. MEFF820619A98 (Mexico); alt. R.F.C. MEFF820619HY1 (Mexico); C.U.R.P. MEFF820619HSRZLS08 (Mexico); alt. C.U.R.P. MEFF820619MSRZLS08 (Mexico) (individual) [SDNTK] (Linked To: AUTOTRANSPORTES TERRESTRES S.A. DE C.V.; Linked To: AUTO SERVICIO JATZIRY S.A. DE C.V.; Linked To: CONSTRUCTORA JATZIRY DE GUASAVE S.A. DE C.V.).

4. MEZA ANGULO, Fausto Isidro; DOB 27 Mar 1964; citizen Mexico; Passport 040059510 (Mexico) (individual) [SDNTK].

-to-

MEZA ANGULO, Fausto Isidro; DOB 27 Mar 1964; POB Guasave, Sinaloa, Mexico; nationality Mexico; citizen Mexico; Gender Male; Passport 040059510 (Mexico); R.F.C. MEAF640327BC0 (Mexico); C.U.R.P. MEAF640327HSLZNS05 (Mexico) (individual) [SDNTK].

Dated: June 29, 2018.
Gregory T. Gatjanis,
Associate Director, Office of Global Targeting, Office of Foreign Assets Control.

[FR Doc. 2018-14522 Filed 7-5-18; 8:45 am]

BILLING CODE 4810-AL-P